FEDERAL COMMUNICATIONS COMMISSION

[DA 03-1711]

Wireless Telecomunications Bureau Promotes Increased Martime Safety by Expanding Collection of Maritime Mobile Service Information

AGENCY: Federal Communications Commission.

ACTION: Notice.

SUMMARY: The Wireless Communications Bureau will collect additional MMSI data recommended by the International Maritime Organization and requested by the GMDSS Task Force. This data collection will be available for U.S Coast Guard use in search and rescue operation and it will enhance maritime safety and improve homeland security. The intended effect of this notice is to expedite search and rescue and avoid large cases of false alerts which are a great burden on the U.S. Coast Guard search and rescue operations.

FOR FURTHER INFORMATION CONTACT: Ghassan Khalek, Public Safety & Private Wireless Division, at 202-418-0680.

SUPPLEMENTARY INFORMATION: This is a summary of the Federal Communications Commission's Public Notice, DA 03-1711, released on May 15, 2003. The full text of this document is available for inspection and copying during normal business hours in the Federal Communications Commission Reference Center, 445 12th Street, SW., Washington, DC 20554. The complete text may be purchased from the Federal Communications Commission's copy contractor, Qualex International, 445 12th Street, SW., Room CY-B402, Washington, DC 20554. The full text may also be downloaded at http://wireless.fcc.gov. Alternative formats are available to persons with disabilities by contacting Brian Millin at (202) 418-7426 or TTY (202) 418-7365 or at bmillin@fcc.gov.

On December 23, 2002, the Public Safety and Private Wireless Division, Wireless Telecommunications Bureau released a Public Notice inviting parties to file comments regarding a request submitted by the National GMDSS Implementation Task Force (Task Force) that the Commission expand its Maritime Mobile Service Identity (MMSI) database to incorporate additional data fields in accordance with the recommendation in International Maritime Organization (IMO) Assembly Resolution A.887(21). The Task Force suggested that the change be implemented by revising the Commission's application forms to require submission of the expanded data when applying for a station license and when renewing such licenses. All of the comments we received supported the request. We have reviewed the record, and find that the adding the additional data fields is appropriate and will improve search and rescue operations.

In this regard, we conclude that adding the additional data fields is warranted because the efficiency and ease of use of the new GMDSS radio system has resulted in a substantial increase in advertent transmission of false alerts, particularly by vessels using the system voluntarily whose operators are not required to be trained or licensed. The U.S. Coast Guard utilizes the information available from numerous databases, including the Commission's MMSI database, to enhance response to GMDSS distress alerts. The collection of the additional data fields recommended by the IMO will improve the validation process, which will help prevent the unnecessary launching of search and rescue assets.

Specifically, the Commission will collect the recommended data for each vessel (data that the Commission does not currently collect from applicants is indicated with an asterisk):

1. Ship name;

2. Maritime Mobile Service Identity (MMSI);

3. Call sign;

4. *EPIRB Identification Code (if applicable) and its homing frequency;

5. Country;

6. Ship identification number (IMO number or national registration number);

7. Brief ship description;

8. *Name, address, telephone and telefax number of emergency contact person ashore;

9. *Alternative 24-hour emergency telephone number (alternative contact ashore);

10. *Capacity for persons on board (passengers and crew);

11. *Radio installation (Inmarsat-A,B,C,D, VHF DSC, etc.) for ship and survival craft;

12. Identification number for all radio systems available;

13. *Type and number of survival craft; and

14. Date of last modification of database record.

The Wireless Telecommunications Bureau is in the process of enhancing the Universal Licensing System (ULS) to allow the database to collect the additional data. A separate Public Notice will be released when the ULS enhancements are deployed.

Federal Communications Commission.
D'wana R. Terry,
Chief, Public Safety & Private Wireless Division, Wireless Telecommunications Bureau.

[FR Doc. 03-13075 Filed 5-23-03; 8:45 am]

BILLING CODE 6712-01-P